DEPARTMENT OF THE INTERIOR

Bureau of Land Management

[BLM_CO_FRN_MO4500179867]

Southwest Colorado Resource Advisory Council Public Meetings

AGENCY: Bureau of Land Management, Interior.

ACTION: Notice of public meetings.

SUMMARY: In accordance with the Federal Land Policy and Management Act of 1976, as amended, and the Federal Advisory Committee Act of 1972, the U.S. Department of the Interior, Bureau of Land Management's (BLM) Colorado Southwest Resource Advisory Council (RAC) is announcing two public meetings in August and November 2024.

DATES: The Southwest Colorado RAC will meet as follows:

• The RAC will participate in a field tour on August 7, 2024, from 9 a.m. to 12 p.m. Mountain Time (MT), and an in-person meeting on August 8, 2024, from 9 a.m. to 3 p.m. MT.

• The RAC will participate in a field tour on November 13, 2024, from 9 a.m. to 12 p.m. MT, and an in-person meeting on November 14, 2024, from 9 a.m. to 3 p.m. MT.

Both meetings will have a virtual participation option. All meetings and field tours are open to the public.

ADDRESSES: The RAC field tours will be held as follows:

• The August 7, 2024, field tour will commence and conclude at the BLM Uncompahgre Field Office, 2465 S Townsend Ave., Montrose, CO 81401. The August 8, 2024, meeting will be held at the Uncompahgre Field Office.

• The November 13, 2024, field tour will commence and conclude at the BLM Tres Rios Field Office, 29211 State Highway CO-184, Dolores, CO 81323. The November 14, 2024, meeting will be held at the Tres Rios Field Office.

FOR FURTHER INFORMATION CONTACT: D. Maggie Magee, Public Affairs Specialist; BLM Southwest District Office, 2465 S Townsend Ave., Montrose, CO 81401; telephone: (970) 240-5323; email: dmagee@blm.gov. Individuals in the United States who are deaf, deafblind, hard of hearing, or have a speech disability may dial 711 (TTY, TDD, or TeleBraille) to access telecommunications relay services for contacting D. Maggie Magee. Individuals outside the United States should use the relay services offered within their country to make international calls to the point-of-contact in the United States.

SUPPLEMENTARY INFORMATION: The 15-member RAC advises the Secretary of the Interior, through the BLM, on a variety of public land issues in the Southwest District, which consists of the Gunnison, Tres Rios, and Uncompahgre field offices.

The RAC will participate in a field tour on August 7, 2024, to view proposed Areas of Critical Environmental Concern (ACECs) being considered for designation through the Uncompahgre Field Office resource management plan (RMP) amendment process. Planned agenda items for the August 8, 2024, meeting include field manager updates, a presentation and discussion of the Uncompahgre Field Office RMP amendment, and the evaluation process for considering ACECs.

The RAC will participate in a field tour on November 13, 2024, to view areas being analyzed in the Tres Rios Field Office Transportation and Access Plan for Travel Area 2, Dolores, Montrose, and San Miguel Counties (TAP2). Planned agenda items for the November 14, 2024, meeting include field manager updates and presentations, discussions on TAP2 and a proposed trail interpreting the area's uranium-vanadium mining history.

Participants wishing to attend virtually must register in advance. Registration, participation information, and final agendas will be posted on the RAC's web page at https://www.blm.gov/getinvolved/resource-advisory-council/near-you/colorado/southwest-rac at least 2 weeks prior to the meetings.

Members of the public planning to attend field tours must provide their own meals and transportation and RSVP 1 week in advance to the Southwest District contact listed in the FOR FURTHER INFORMATION CONTACT section of this notice. Please make requests in advance for sign language interpreter services, assistive listening devices, language translation services, or other reasonable accommodations. We ask that you contact the person listed in the FOR FURTHER INFORMATION CONTACT section of this notice at least 7 business days prior to the meeting to give the BLM sufficient time to process your request. All reasonable accommodation requests are managed on a case-by-case basis.

A 30-minute public comment period is scheduled for 2 p.m. MT during each of the meetings. Depending on the number of people who wish to comment during the public comment period, time for individual comments may be limited. Written comments may be submitted in advance to the contact listed in the FOR FURTHER INFORMATION CONTACT section of this notice. Comments received at least 1 week in advance of the meeting will be provided to RAC members prior to the meeting. Please include “RAC Comment” in your submission. Before including your address, phone number, email address, or other personal identifying information in your comment, please be aware that your entire comment—including your personally identifying information—may be made publicly available at any time. While individuals may request their personally identifying information to be withheld from public view, we cannot guarantee that we will be able to do so.

Detailed summary minutes of the RAC meetings will be maintained in the Southwest District Office and will be available for public inspection and reproduction during regular business hours within 90 days following the meeting. Minutes and agendas will also be posted on the RAC's web page.

(Authority: 43 CFR 1784.4-2)

Douglas J. Vilsack,
BLM Colorado State Director.

[FR Doc. 2024-13979 Filed 6-25-24; 8:45 am]

BILLING CODE 4331-16-P